DEPARTMENT OF THE INTERIOR

National Park Service

Denali National Park Subsistence Resource Commission Meeting

AGENCY: National Park Service, Interior.

ACTION: Notice of meeting; correction.

SUMMARY: The National Park Service published a document in the Federal Register of July 6, 2004, volume 69, number 128, page 40650, concerning a public meeting of the Denali National Park Subsistence Resource Commission. The date given for the meeting was in error; in addition, the agenda for the meeting has been changed.

Correction: The correct information concerning the meeting is as follows.

Meeting Date and Time: Friday, August 20, 2004, from 9 a.m. to 5 p.m.

Location: Kantishna Roadhouse, in Kantishna, Alaska.

Agenda: The following agenda items will be discussed—

1. Call to order.

2. Roll call and confirmation of quorum.

3. Superintendent's welcome and introductions.

4. Approval of minutes from last commission meeting.

5. Additions and corrections to draft agenda.

6. Public and other agency comments.

7. Old Business.

a. Cantwell Resident Zone issues.

b. North Access and Stampede Summit meetings.

c. Predator-Prey Research Studies.

8. New Business.

a. Federal Subsistence Board actions on wildlife proposals for 2004-2005.

b. Federal Subsistence Fisheries proposals for 2005-06.

c. Subsistence ATV use in Denali.

d. Alaska Board of Game actions on wildlife proposals for 2004-2005.

9. NPS reports and updates.

a. Fish and wildlife updates.

b. Cultural and Subsistence updates. Nikolai Community Harvest Assessments. Native Tribal Council meetings. Nikolai Historical Fishery study.

c. Annual SRC Chairs meeting update.

10. Public and other agency comments.

11. Set time and place of next Denali SRC meeting.

12. Adjournment.

FOR FURTHER INFORMATION CONTACT: Hollis Twitchell, Subsistence and Cultural Resources Manager, or Roy Tansy, Jr., Subsistence Technician, at (907) 683-9544 or (907) 455-0673.

SUPPLEMENTARY INFORMATION: Notice of this meeting is required pursuant to the Federal Advisory Committee Act, 5 U.S.C. Appendix 1-16; Pub. L. 92-463.

The Subsistence Resource Commission is authorized by the Alaska National Interest Lands Conservation Act (see, 16 U.S.C. 3118; Pub. L. 96-487, title VIII, section 808), and operates in accordance with the provisions of the Federal Advisory Committee Act.

Draft minutes of the meeting will be available for public inspection approximately six weeks after the meeting from: Superintendent, Denali National Park and Preserve, P.O. Box 9, Denali Park, AK 99755.

Pete Lucero,
Acting, Alaska Desk Officer.

[FR Doc. 04-16394 Filed 7-19-04; 8:45 am]

BILLING CODE 4312-14-P